NUCLEAR REGULATORY COMMISSION

[Docket No. IA-05-054; ASLBP No. 06-847-03-EA]

Atomic Safety and Licensing Boards; In the Matter of Steven P. Moffitt; Notice of Hearing (Enforcement Order)

April 5, 2006.

Before Administrative Judges: Michael C. Farrar, Chairman; E. Roy Hawkens; and Nicholas G. Trikouros.

This proceeding stems from an immediately-effective Enforcement Order issued on January 4, 2006, by the Nuclear Regulatory Commission Staff against Mr. Steven P. Moffitt, prohibiting him from “engaging in NRC-licensed activities” for five years because of certain actions the NRC Staff believes he took in 2001 when he was employed at the Davis-Besse Nuclear Power Plant, located some 25 miles east of Toledo near Oak Harbor, Ohio. That Order, published in the Federal Register (71 FR 2581) on January 17, 2006, detailed the Staff's assertions that Mr. Moffitt had deliberately provided materially incomplete and inaccurate information in connection with an issue affecting the continued operation of the Davis-Besse facility, and provided Mr. Moffitt with the opportunity, under 10 CFR 2.202(b), to request a hearing to contest the matters set out in the Order. Through counsel, Mr. Moffitt timely filed such a request on February 23, 2006.

This Atomic Safety and Licensing Board was established on March 16, 2006, to consider Mr. Moffitt's hearing request. With the NRC Staff having indicated no objection thereto, we granted that request on March 27, 2006, in a Memorandum and Order that also granted the hearing requests of two other former Davis-Besse employees who were the subjects of immediately-effective Staff Enforcement Orders likewise suspending them from employment in the nuclear industry.

In light of the foregoing, and consistent with 10 CFR 2.318(a) (see also id. §§ 2.203 and 2.312(a)), please take notice that a hearing will be conducted in this proceeding. The hearing will be governed by the specific hearing procedures set forth in 10 CFR Part 2, Subpart G (10 CFR 2.700-2.713), which procedures supplement the general rules set forth in 10 CFR Part 2, Subpart C (10 CFR 2.300-2.390). During the course of the proceeding, the Board may, among other measures, hold oral arguments (id. § 2.331) and pre-hearing conferences (id. § 2.329), and may conduct evidentiary hearings (id. § 2.711). The public is invited to attend any oral argument, pre-hearing conference, or evidentiary hearing unless otherwise ordered by the Commission (id. §§ 2.327-2.328). The time and place of any such sessions will be fixed by subsequent order(s); notices thereof will be published in the Federal Register and/or made available to the public at the NRC Public Document Room, located in One White Flint North, 11555 Rockville Pike (first floor), Rockville, Maryland, and through the NRC Web site, http://www.nrc.gov.

In the same March 27, 2006 Memorandum and Order in which it granted Mr. Moffitt's hearing request, this Board convened a conference call for April 13, 2006, during which it will discuss with counsel the status of their negotiations concerning an agreement on a discovery process and schedule. Depending on those negotiations and other pending matters, the Board may shortly thereafter set an initial scheduling order for the proceeding.

Documents relating to this proceeding are available for public inspection at the NRC's Public Document Room or electronically from the publicly available records component of NRC's document system (ADAMS). ADAMS is accessible from the NRC Web site at http://www.nrc.gov/reading-rm/adams.html.

Persons who do not have access to ADAMS or who encounter problems in accessing the documents located in ADAMS may contact the NRC Public Document Room reference staff by telephone at 1-800-397-4209 or 301-415-4737, or by e-mail to pdr@nrc.gov.

It is so ordered.

For the Atomic Safety and Licensing Board.
April 5, 2006.
Michael C. Farrar,
Chairman, Administrative Judge, Rockville, Maryland.

[FR Doc. E6-5258 Filed 4-10-06; 8:45 am]

BILLING CODE 7590-01-P